DEPARTMENT OF COMMERCE

U.S. Census Bureau

Proposed Information Collection; Comment Request; 2018 End-to-End Census Test—Post-Enumeration Survey Independent Listing Operation

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before February 27, 2017.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Beth Tyszka, U.S. Census Bureau, 4600 Silver Hill Road, Room 2K281J, Washington, DC 20233, 301-763-3066 (or via the Internet at Beth.Clarke.Tyszka@census.gov).

SUPPLEMENTARY INFORMATION

I. Abstract

During the years preceding the 2020 Census, the Census Bureau will pursue its commitment to reducing the costs of conducting a decennial census while maintaining our commitment to quality. In the 2018 Fiscal Year, the Census Bureau will be performing a 2018 End-to-End Census Test. This last major test before the 2020 Census has the stated purpose (1) to test and validate 2020 Census operations, procedures, systems, and field infrastructure together to ensure proper integration and conformance with functional and non-functional requirements, and (2) to produce a prototype of geographic and data products.

As in previous censuses, the Post-Enumeration Survey for the 2020 Census will be conducted to provide estimates of census net coverage error and components of census coverage (such as correct enumerations, omissions, and erroneous enumerations, including duplicates) for housing units and persons living in housing units (see Definition of Terms) for the United States (U.S.) and Puerto Rico, excluding remote Alaska. These coverage estimates provide insight into the quality and coverage of census results, which can be used to improve future censuses. Given that the Post-Enumeration Survey involves several field data collection activities on a sample basis and several matching activities between the survey and the 2020 Census during the 2020 Census timeline, these Post-Enumeration Survey operations will also require testing during the 2018 End-to-End Census Test. It is also important to note that for the Post-Enumeration Survey methods, we need to ensure independence between the survey and census operations to prevent any of the programs affecting each other results.

The Independent Listing operation, beginning in January of 2018, is the first Post-Enumeration Survey operation in the 2018 End-to-End Census Test. It will be conducted to obtain a complete inventory of all the housing unit addresses within the Post-Enumeration Survey sample of Basic Collection Units (BCUs) before the 2018 End-to-End Census Test enumeration commences.

The following objectives are crucial to a successful Independent Listing operation:

• Test the automated listing and mapping capabilities required.

• Validate the creation of the Independent Listing workload.

• Conduct a listing quality control operation during the Independent Listing operation.

The Post-Enumeration Survey Independent Listing operation for the 2018 End-to-End Census Test will be conducted in selected survey sample areas in the specified sites listed below in the U.S. (excluding remote Alaska). The primary sampling unit is a BCU. The currently determined test sites are Pierce County, Washington; Providence County, Rhode Island; and the Bluefield-Beckley-Oak Hill, West Virginia area. As in the past, the Post-Enumeration Survey operations and activities will be conducted separate from and independent of the other 2018 End-to-End Census Test operations to prevent any potential contamination of census or Post-Enumeration Survey results.

During the Independent Listing operation, field staff, referred to as listers, will canvass every street, road, or other place where people might live in their assigned BCUs and construct a list of housing units using an automated data collection instrument on a mobile device. The mobile device will contain the data collection instrument with digital maps of the area that needs to be canvassed. Listers will attempt to contact a member of each housing unit they encounter in their route. If someone answers, the lister will provide a Confidentiality Notice and ask about the address in order to collect the address information, as appropriate. To ensure all units at a multi-unit are properly listed, the lister will then ask if there are any additional vacant or occupied units in the structure or on the property. If there are additional units, the lister will collect and update that information. Multi-units are defined as apartment buildings or houses, condominiums, duplexes and triplexes, in addition to separate housing units with attached apartments, such as basement or garage, or similar apartments where people could be living on Census Day. To be classified as a separate unit, these must meet the housing unit definition requirement of having direct access from outside or through a common hallway, and must either have someone living there or be intended for occupancy, even if vacant at the time of the Independent Listing operation. Mobile homes and trailers, both in a park and not in a park, will also be listed, including any empty lots or pads in the parks in the BCU. Finally, any occupied camper, recreational vehicle, van, boat, tent or other location where people are living during the listing operation will also be listed as housing units.

If the lister does not find anyone at home after several attempts, they will try to collect the information from a proxy or update the address list as best they can by observation as a last resort. Listers will also identify the location of each housing unit by collecting map spots on digital maps (i.e., Global Positioning System (GPS) coordinates). The lister will also collect information on the status of each housing unit, such as occupied, vacant, under construction, empty trailer park, etc., and collect the name and phone number of the respondent. Completed Independent Listing BCUs will be automatically reviewed for abnormal characteristics (such as GPS information indicating that the lister was far from the units they were listing). BCUs with unusual characteristics may be subject to a Dependent Quality Check (DQC) wherein DQC listers return to the field to check a portion of units to ensure that the work performed is of acceptable quality and to verify that the correct BCUs were visited. If the BCU fails the DQC, then the DQC lister reworks the entire BCU.

Following the completion of listing for each BCU, the addresses are computer and clerically matched, on a flow basis, against the list of addresses considered valid for the census at the time of the matching operation for the same BCU. The addresses that remain unmatched or have unresolved address status after matching will be sent to the field during the next field operation of the Post-Enumeration Survey (Initial Housing Unit Followup) to collect additional information that might allow a resolution of any differences between the Independent Listing and census address list results. Cases will also be sent to the field to resolve potential duplicates and unresolved housing unit status. The questions and procedures to be used in the Initial Housing Unit Followup phase of the Post-Enumeration Survey in the 2018 End-to-End Census Test and all subsequent Post-Enumeration Survey phases will be published in several separate Federal Register Notices.

II. Method of Collection

The Independent Listing operation will be conducted using in-field person-to-person interviews on an automated instrument on a mobile device. Listers will receive work assignments grouped by geography and in close proximity to the lister's residence (whenever possible). Field staff will use the Enterprise Census and Survey Enabling (ECaSE) platform's Listing and Mapping software.

Universe

The 2018 End-to-End Census Test occurs in three sites within the continental United States: Pierce County, Washington; Providence County, Rhode Island; and the Bluefield-Beckley-Oak Hill, West Virginia area. For the Post-Enumeration Survey operations, a sample of approximately 21,000 housing units will be selected and divided evenly across the three sites included in the test; allocating 7,000 units to each of the sites. Independent Listing listers are expected to knock on every door over several spaced visits in their assigned BCUs to try to find a resident or proxy to ask about the units to be listed. The quality control operation will consist of 1,050 housing units.

Definition of Terms

Components of Census Coverage—The components of census coverage includes Correct Enumerations, Erroneous Enumerations, Whole-Person Imputations, and Omissions. Correct enumerations are persons or housing units that were correctly enumerated in the census. Erroneous enumerations are persons or housing units that were enumerated in the census but should not have been. Examples of erroneous enumerations are duplicates, nonexistent housing units or persons, and persons or housing units that were enumerated in the wrong place. Omissions are persons and housing units that were not correctly enumerated in the census but should have been. Lastly, whole-person imputations are census records for which all of the demographic characteristics were imputed. Many of these imputations are persons for which we knew the count but did not obtain sufficient information.

Net Coverage Error—Reflects the difference between the true population and the census count. If the census count was less than the actual number of persons or housing units in the population, then we say there was an undercount. If the census count was more than the actual number of persons or housing units in the population, then we say there was an over count.

III. Data

OMB Control Number: 0607-XXXX.

Form Number: NA.

Type of Review: Regular submission.

Affected Public: Individuals or Households.

Estimated Number of Respondents: 21,000 Housing Units (HUs) for Independent Listing and 1,050 HUs for Independent Listing Dependent Quality Control.

Estimated Time per Response: 5 min.

Estimated Total Annual Burden Hours: 1,840 hours.

Estimated Total Annual Cost: The only cost to respondents is that of their time to respond.

Respondent's Obligation: Mandatory.

Legal Authority: Title 13, U.S. Code, Section 141 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
PRA Departmental Lead, Office of the Chief Information Officer.

[FR Doc. 2016-31410 Filed 12-27-16; 8:45 am]

BILLING CODE 3510-07-P